FEDERAL DEPOSIT INSURANCE CORPORATION

Agency Information Collection Activities: Submission for OMB Review; Comment Request (OMB No. 3064-0026; -00079; -0122 and -0139)

AGENCY: Federal Deposit Insurance Corporation (FDIC).

ACTION: Agency information collection activities: Submission for OMB review; comment request.

SUMMARY: The FDIC, as part of its obligations under the Paperwork Reduction Act of 1995, invites the general public and other Federal agencies to take this opportunity to comment on the renewal of the existing information collections described below. On September 30, 2019, the FDIC requested comment for 60 days on a proposal to renew these information collections. No comments were received. The FDIC hereby gives notice of its plan to submit to OMB a request to approve the renewal of these information collections, and again invites comment on their renewal.

DATES: Comments must be submitted on or before January 15, 2020.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collection of information:

1. Title: Transfer Agent Registration and Amendment Form.

OMB Number: 3064-0026.

Form: Transfer Agent Registration and Amendment Form (Form TA-1).

Affected Public: Private Sector, insured state nonmember banks and state savings associations.

Burden Estimate:

Summary of Annual Burden
Information collection (IC) description | Type of burden | Obligation to respond | Estimated number of respondents | Estimated number of responses | Estimated time per response (hours) | Frequency of response | Total estimated annual burden (hours)
Transfer Agent Registration and Amendment Form | Reporting | Mandatory | 12 | 1 | .39 | On Occasion | 4.73
Total Estimated Annual Burden Hours |  |  |  |  |  |  | 4.73

General Description of Collection: Section 17A(c) of the Security Exchange Act of 1934 (the Act) requires all transfer agents for securities registered under section 12 of the Act or, if the security would be required to be registered except for the exemption from registration provided by Section 12(g)(2)(B) or Section 12(g)(2)(G), to “fil[e] with the appropriate regulatory agency . . . an application for registration in such form and containing such information and documents . . . as such appropriate regulatory agency may prescribe as necessary or appropriate in furtherance of the purposes of this section.” In general, an entity performing transfer agent functions for a security is required to register with its appropriate regulatory agency (“ARA”) if the security is registered on a national securities exchange or if the issuer of the security has total assets exceeding $10 million and a class of equity security held of record by 2,000 persons or, for an issuer that is not a bank, BHC, or SLHC, by 500 persons who are not accredited investors. The Board's Regulation H (12 CFR 208.31(a)) and Regulation Y (12 CFR 225.4(d)), the OCC's 12 CFR 9.20, and the FDIC's 12 CFR part 341 implement these provisions of the Act. To accomplish the registration of transfer agents, Form TA-1 was developed in 1975 as an interagency effort by the Securities and Exchange Commission (SEC) and the agencies. The agencies primarily use the data collected on Form TA-1 to determine whether an application for registration should be approved, denied, accelerated or postponed, and they use the data in connection with their supervisory responsibilities.

2. Title: Application for Consent to Reduce or Retire Capital.

OMB Number: 3064-0079.

Form: None.

Affected Public: Insured state nonmember banks and state savings associations.

Burden Estimate:

Summary of Annual Burden
Information collection (IC) description | Type of burden | Obligation to respond | Estimated number of respondents | Estimated number of responses | Estimated time per response (hours) | Frequency of response | Total estimated annual burden (hours)
Application for consent to reduce or retire capital | Reporting | Mandatory | 118 | 1 | 11 | On Occasion | 1,298
Total Estimated Annual Burden Hours |  |  |  |  |  |  | 1,298

General Description of Collection: Insured state nonmember banks proposing to change their capital structure must submit an application containing information about the proposed change to obtain FDIC's consent to reduce or retire capital.

3. Title: Forms Relating to FDIC Outside Counsel, Legal Support and Expert Services Programs.

OMB Number: 3064-0122.

Forms: See Table below.

Affected Public: Entities providing legal and expert services to the FDIC.

Burden Estimate:

Summary of Annual Burden
Information collection (IC) description | Type of burden | Obligation to respond | Estimated number of respondents | Estimated number of responses | Estimated time per response (hours) | Frequency of response | Total estimated annual burden (hours)
Non-Litigation Budget Form—Form No, 5000/26 | Reporting | Mandatory | 185 | 1 | 0.50 | On Occasion | 92.50
Amended Litigation Budget—Form No. 5000/31 | Reporting | Mandatory | 100 | 1 | 0.50 | On Occasion | 50.00
Amended Non-Litigation Budget—Form No. 5000/33 | Reporting | Mandatory | 50 | 1 | 0.50 | On Occasion | 25.00
Litigation Budget—Form No. 5000/35 | Reporting | Mandatory | 100 | 1 | 0.50 | On Occasion | 50.00
Representations and Certifications for Legal Contractors—Form No. 5210/01 | Reporting | Mandatory | 60 | 1 | 0.75 | On Occasion | 45.00
Expert Invoice for Fees and Expenses (EIF&E)—Form No. 5000/01 | Reporting | Mandatory | 50 | 1 | 0.50 | On Occasion | 25.00
Legal Support Services (LSS) Provider Invoice for Fees and Expenses (IF&E)—Form No. | Reporting | Mandatory | 30 | 1 | 0.50 | On Occasion | 15.00
Agreement for Services (Expert/Legal Support Services (LSS) Provider) Amendment—Form No. 5210/03 | Reporting | Mandatory | 30 | 1 | 1.00 | On Occasion | 30.00
Agreement for Services (Expert/Legal Support Services (LSS) Provider) Rate Schedule—Form No. 5210/04 | Reporting | Mandatory | 100 | 1 | 1.00 | On Occasion | 100.00
Legal Services Agreement (LSA) Amendment—Form No. 5210/06 | Reporting | Mandatory | 50 | 1 | 1.00 | On Occasion | 50.00
Expert budget—Form No. 5210/08 | Reporting | Mandatory | 80 | 1 | 0.50 | On Occasion | 40.00
Representations and Certifications for Experts and Legal Support Services Providers—Form No. 5210/09 | Reporting | Mandatory | 65 | 1 | 1.00 | On Occasion | 65.00
Outside Counsel Legal Services Agreement Rate Schedule—Form No. 5210/10 | Reporting | Mandatory | 65 | 1 | 1.00 | On Occasion | 65.00
Legal Invoice for Fees and Expenses—Form No. 5210/11 | Reporting | Mandatory | 100 | 1 | 1.00 | On Occasion | 100.00
Firm Travel Voucher—Form No. 5210/12 | Reporting | Mandatory | 100 | 1 | 1.00 | On Occasion | 100.00
Oral Representations and Certifications for Expert Legal Support Services Telephone Authorization For Expenditures Under $5,000—Form No. 5210/14 | Reporting | Mandatory | 50 | 1 | 0.50 | On Occasion | 25.00
Legal Support Services (LSS) Provider Budget Form—Form No. 5210/15 | Reporting | Mandatory | 25 | 1 | 0.50 | On Occasion | 12.50
Legal Services Agreement (LSA)—Form No. 5210/13 | Reporting | Mandatory | 65 | 1 | 0.25 | On Occasion | 16.25
Total Estimated Annual Burden Hours |  |  |  |  |  |  | 906.25

General Description of Collection: The information collected enables the FDIC to ensure that all individuals, businesses and firms seeking to provide legal support services to the FDIC meet the eligibility requirements established by Congress. The information is also used to manage and monitor payments to contractors, document contract amendments, expiration dates, billable individuals, minority law firms, and to ensure that law firms, experts, and other legal support services providers comply with statutory and regulatory requirements. This collection consists of 18 forms.

4. Title: CRA Sunshine.

OMB Number: 3064-0139.

Forms: None.

Affected Public: Insured state nonmember banks and state savings associations and their affiliates and nongovernmental entities and persons.

Burden Estimate:

Summary of Annual Burden
Information collection (IC) description | Type of burden | Obligation to respond | Estimated number of respondents | Estimated number of responses | Estimated time per response (hours) | Frequency of response | Total estimated annual burden (hours)
Disclosure burden for insured depository institutions and affiliates—.6(b) covered agreements to public | Third Party Disclosure | Mandatory | 10 | 1 | 1 | Annually | 14
Disclosure burden for insured depository institutions and affiliates—.6(d) copy of agreement to agency | Third Party Disclosure | Mandatory | 10 | 1 | 1 | Annually | 14
Disclosure burden for insured depository institutions and affiliates—.6(b)(ii) list of agreements to agency | Third Party Disclosure | Mandatory | 10 | 1 | 1 | Annually | 14
Disclosure burden for insured depository institutions and affiliates—.6(d) agreements relating to activities of CRA affiliates | Third Party Disclosure | Mandatory | 10 | 1 | 1 | Annually | 14.00
Reporting burden for insured depository institutions and affiliates—.7(b) annual report | Reporting | Mandatory | 10 | 1 | 4 | Annually | 40
Reporting burden for insured depository institutions and affiliates—.7(f)(2)(ii): Filing NGEP annual report | Reporting | Mandatory | 6 | 1 | 1 | Annually | 6
Disclosure burden for non-government entity or person—.6(c): Copy of agreement to agency | Third Party Disclosure | Mandatory | 6 | 1 | 1 | Annually | 6
Disclosure burden for non-government entity or person—.6(b): Covered agreements to public | Third Party Disclosure | Mandatory | 6 | 1 | 1 | Annually | 6
Reporting burden for NGEP—.7(b): Annual report | Reporting | Mandatory | 6 | 1 | 4 | Annually | 24
Total Estimated Annual Burden Hours |  |  |  |  |  |  | 138

General Description of Collection: This collection implements a statutory requirement imposing reporting, disclosure and recordkeeping requirements on some community reinvestment-related agreements between insured depository institutions or affiliates, and nongovernmental entities or persons. The information assists interested members of the public in assessing whether the parties are fulfilling their agreements, and helps the agencies understand how the institutions they regulate are fulfilling their CRA responsibilities.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on December 10, 2019.
Federal Deposit Insurance Corporation.
Annmarie H. Boyd,
Assistant Executive Secretary.

[FR Doc. 2019-26981 Filed 12-13-19; 8:45 am]

BILLING CODE 6714-01-P